DEPARTMENT OF ENERGY

Federal Energy Regulatory Commission

Sunshine Act Meeting

November 1, 2000.

The following notice of meeting is published pursuant to section 3(a) of the Government in the Sunshine Act (Pub. L. No. 94-409), 5 U.S.C. 552b:

AGENCY HOLDING MEETING: Federal Energy Regulatory Commission.

DATE AND TIME: November 8, 2000, 10:00 a.m.

PLACE: Room 2C, 888 First Street, NE., Washington, DC 20426.

STATUS: Open.

MATTERS TO BE CONSIDERED: Agenda.

Note: Items listed on the agenda may be deleted without further notice.

CONTACT PERSON FOR MORE INFORMATION: David P. Boergers, Secretary, telephone (202) 208-0400; for a recording listing items stricken from or added to the meeting, call (202) 208-1627.

This is a list of matters to be considered by the commission. It does not include a listing of all papers relevant to the items on the agenda; however, all public documents may be examined in the reference and information center.

753rd—Meeting November 8, 2000; Regular Meeting (10:00 a.m.)

Consent Agenda—Markets, Tariffs and Rates—Electric

CAE-1.

DOCKET# ER00-3638, 000, NEW YORK INDEPENDENT SYSTEM OPERATOR, INC. AND NEW ENGLAND POWER POOL

CAE-2.

DOCKET# ER00-3668, 000, COMMONWEALTH EDISON COMPANY

CAE-3.

DOCKET# ER00-3675, 000, NORTH AMERICAN ELECTRIC RELIABILITY COUNCIL

CAE-4.

DOCKET# ER00-3672, 000, THE DETROIT EDISON COMPANY AND DTE ENERGY TRADING, INC.

CAE-5.

DOCKET# ER00-3671, 000, ENTERGY SERVICES, INC.

OTHER#S ER00-2621, 000, ENTERGY SERVICES, INC.

CAE-6.

DOCKET# ER00-3251, 000, EXELON GENERATION COMPANY, L.L.C.

OTHER#S ER97-3954, 012, UNICOM POWER MARKETING, INC.

ER97-3954, 013, UNICOM POWER MARKETING, INC.

ER98-380, 012, HORIZON ENERGY COMPANY

ER98-380, 013, HORIZON ENERGY COMPANY

ER98-1734, 002, COMMONWEALTH EDISON COMPANY

ER98-1734, 003, COMMONWEALTH EDISON COMPANY

ER99-754, 004, AMERGEN ENERGY COMPANY, L.L.C.

ER99-754, 005, AMERGEN ENERGY COMPANY, L.L.C.

ER99-1872, 002, PECO ENERGY COMPANY

ER99-1872, 003, PECO ENERGY COMPANY

ER00-1030, 001, AMERGEN VERMONT, L.L.C.

ER00-1030, 002, AMERGEN VERMONT, L.L.C.

ER00-2429, 001, UNICOM ENERGY INC.

ER00-2429, 002, UNICOM ENERGY INC.

ER00-3251, 001, EXELON GENERATION COMPANY, L.L.C.

CAE-7.

DOCKET# ER96-3146, 000, WEST PENN POWER COMPANY

OTHER#S ER96-3146, 001, WEST PENN POWER COMPANY

ER96-3146, 002, WEST PENN POWER COMPANY

ER96-3146, 003, WEST PENN POWER COMPANY

CAE-8.

DOCKET# ER00-3635, 000, PECO ENERGY COMPANY

CAE-9.

DOCKET# ER00-3688, 000, AMERICAN ELECTRIC POWER SERVICE CORPORATION

CAE-10.

OMITTED

CAE-11.

DOCKET# ER00-845, 000, SOUTHERN CALIFORNIA EDISON COMPANY

OTHER#S ER00-845, 001, SOUTHERN CALIFORNIA EDISON COMPANY

CAE-12.

DOCKET# EC00-131, 000, EDISON SAULT ELECTRIC COMPANY

CAE-13.

DOCKET# ER00-1947, 001, ENTERGY SERVICES, INC.

CAE-14.

DOCKET# ER00-2445, 002, PJM INTERCONNECTION, L.L.C.

OTHER#S EL00-74, 002, PJM INTERCONNECTION, L.L.C.

CAE-15.

DOCKET# EL00-110, 000, DOMINION NUCLEAR CONNECTICUT, INC.

CAE-16.

DOCKET# ER00-3577, 000, NEW ENGLAND POWER POOL

CAE-17.

DOCKET# ER00-3591, 000, NEW YORK INDEPENDENT SYSTEM OPERATOR, INC.

OTHER#S ER00-1969, 001, NEW YORK INDEPENDENT SYSTEM OPERATOR, INC.

ER00-3591, 001, NEW YORK INDEPENDENT SYSTEM OPERATOR, INC.

Consent Agenda—Markets, Tariffs and Rates—Gas

CAG-1.

DOCKET# CP98-133, 005, VECTOR PIPELINE L.P.

OTHER#S CP98-133, 006, VECTOR PIPELINE L.P.

CP98-134, 004, VECTOR PIPELINE L.P.

CP98-134, 005, VECTOR PIPELINE L.P.

CP98-135, 004, VECTOR PIPELINE L.P.

RP00-586, 000, VECTOR PIPELINE L.P.

CAG-2.

DOCKET# RP00-571, 000, RELIANT ENERGY GAS TRANSMISSION COMPANY

CAG-3.

OMITTED

CAG-4.

OMITTED

CAG-5.

DOCKET# PR00-18, 000, GREAT LAKES ENERGY PARTNERS, L.L.C.

CAG-6.

DOCKET# RP96-347, 018, NORTHERN NATURAL GAS COMPANY

CAG-7.

DOCKET# RP00-264, 000, NORTHERN NATURAL GAS COMPANY

CAG-8.

DOCKET# RP00-448, 001, WYOMING INTERSTATE COMPANY, LTD.

CAG-9.

DOCKET# RP00-447, 001, COLORADO INTERSTATE GAS COMPANY

CAG-10.

OMITTED

CAG-11.

OMITTED

CAG-12.

DOCKET# RP00-162, 006, PANHANDLE EASTERN PIPE LINE COMPANY

OTHER#S RP00-162, 005, PANHANDLE EASTERN PIPE LINE COMPANY

CAG-13.

DOCKET# RS92-11, 028, TEXAS EASTERN TRANSMISSION CORPORATION

OTHER#S RP94-299, 005, TEXAS EASTERN TRANSMISSION CORPORATION

CAG-14.

DOCKET# RM96-1, 014, STANDARDS FOR BUSINESS PRACTICES OF INTERSTATE NATURAL GAS PIPELINES

OTHER#S RP01-32, 000, TRANSCOLORADO GAS TRANSMISSION COMPANY

RP01-33, 000, QUESTAR PIPELINE COMPANY

RP01-34, 000, OVERTHRUST PIPELINE COMPANY

RP01-37, 000, EQUITRANS, L.P.

RP01-38, 000, COLORADO INTERSTATE GAS COMPANY

RP01-39, 000, WYOMING INTERSTATE COMPANY, LTD.

RP01-40, 000, COVE POINT LNG LIMITED PARTNERSHIP

RP01-41, 000, YOUNG GAS STORAGE COMPANY, LTD.

RP01-43, 000, EASTERN SHORE NATURAL GAS COMPANY

RP01-44, 000, IROQUOIS GAS TRANSMISSION SYSTEM, L.P.

RP01-45, 000, TOTAL PEAKING SERVICES, L.L.C.

RP01-46, 000, CARNEGIE INTERSTATE PIPELINE COMPANY

RP01-47, 000, VIKING GAS TRANSMISSION COMPANY

RP01-48, 000, EGAN HUB PARTNERS, L.P.

RP01-49, 000, ALGONQUIN LNG, INC.

RP01-50, 000, PORTLAND NATURAL GAS TRANSMISSION SYSTEM

RP01-51, 000, CROSSROADS PIPELINE COMPANY

RP01-52, 000, SOUTHWEST GAS STORAGE COMPANY

RP01-53, 000, GREAT LAKES GAS TRANSPORT, LLC

RP01-55, 000, WESTGAS INTERSTATE, INC.

RP01-57, 000, MIGC, INC.

RP01-58, 000, GRANITE STATE GAS TRANSMISSION, INC.

CAG-15.

DOCKET# PR00-17, 000, TRANSOK, LLC

CONSENT AGENDA—MISCELLANEOUS

CAM-1.

DOCKET# RM99-8, 001, PRESERVATION OF RECORDS OF PUBLIC UTILITIES AND LICENSEES, NATURAL GAS COMPANIES, AND OIL PIPELINE COMPANIES

CAM-2. OMITTED

CONSENT AGENDA—ENERGY PROJECTS—HYDRO

CAH-1.

DOCKET# P-459, 108, UNION ELECTRIC COMPANY, D/B/A AMERENUE

CAH-2.

DOCKET# P-2842, 029, CITY OF IDAHO FALLS, IDAHO

OTHER#S P-553, 066, CITY OF SEATTLE, WASHINGTON P-619 077 CITY OF SANTA CLARA, CALIFORNIA

P-637, 015, PUBLIC UTILITY DISTRICT NO. 1 OF CHELAN COUNTY, WASHINGTON

P-943, 068, PUBLIC UTILITY DISTRICT NO. 1 OF CHELAN COUNTY, WASHINGTON

P-1417, 052, THE CENTRAL NEBRASKA PUBLIC POWER AND IRRIGATION DISTRICT

P-1862, 041, CITY OF TACOMA, WASHINGTON

P-2000, 019, NEW YORK POWER AUTHORITY

P-2016, 033, CITY OF TACOMA, WASHINGTON

P-2042, 009, PUBLIC UTILITY DISTRICT NO. 1 OF PEND OREILLE COUNTY, WASHINGTON

P-2101, 057, SACRAMENTO MUNICIPAL UTILITY DISTRICT

P-2144, 020, CITY OF SEATTLE, WASHINGTON

P-2145, 035, PUBLIC UTILITY DISTRICT NO. 1 OF CHELAN COUNTY, WASHINGTON

P-2149, 072, PUBLIC UTILITY DISTRICT NO. 1 OF DOUGLAS COUNTY, WASHINGTON

P-2216, 037, NEW YORK POWER AUTHORITY

P-2409, 098, CALAVERAS COUNTY WATER DISTRICT

P-2442, 032, CITY OF WATERTOWN, NEW YORK

P-2685, 006, NEW YORK POWER AUTHORITY

P-2705, 012, CITY OF SEATTLE, WASHINGTON

P-2952, 061, CITY OF IDAHO FALLS, IDAHO

P-2959, 076, CITY OF SEATTLE, WASHINGTON

P-2997, 019, SOUTH SUTTER WATER DISTRICT

P-3083, 085, OKLAHOMA MUNICIPAL POWER AUTHORITY

P-3190, 009, CITY OF SANTA CLARA, CALIFORNIA

P-3193, 009, CITY OF SANTA CLARA, CALIFORNIA

P-6842, 097, CITIES OF ABERDEEN AND TACOMA, WASHINGTON

P-10551, 069, CITY OF OSWEGO, NEW YORK

CAH-3.

DOCKET# P-2197, 035, ALCOA POWER GENERATING, INC.

CAH-4.

DOCKET# P-459, 109, UNION ELECTRIC COMPANY, D/B/A AMERENUE CONSENT AGENDA—ENERGY PROJECTS—CERTIFICATES

CAC-1. DOCKET# CP00-446, 000, MONTANA POWER COMPANY

CAC-2. DOCKET# CP00-82, 001, WILLIAMS GAS PIPELINES CENTRAL, INC.

CAC-3. DOCKET# CP96-557, 001, GREEN CANYON GATHERING COMPANY

CAC-4. DOCKET# CP99-604, 001, SOUTHERN NATURAL GAS COMPANY

CAC-5. DOCKET# RP00-220, 001, TOWN OF NELIGH, NEBRASKA V. KINDER MORGAN INTERSTATE GAS TRANSMISSION, L.L.C. AND K N ENERGY, A DIVISION OF KINDER MORGAN, INC.

ENERGY PROJECTS—HYDRO AGENDA

H-1. RESERVED

ENERGY PROJECTS—CERTIFICATES AGENDA

C-1. RESERVED

MARKETS, TARIFFS AND RATES—ELECTRIC AGENDA

E-1. DOCKET# RM98-4, 000, REVISED FILING REQUIREMENTS UNDER PART 33 OF THE COMMISSION'S REGULATIONS

ORDER ON FINAL RULE.

MARKETS, TARIFFS AND RATES—GAS AGENDA

G-1. RESERVED

David P. Boergers,
Secretary.

[FR Doc. 00-28493 Filed 11-2-00; 11:30 am]

BILLING CODE 6717-01-P